DEPARTMENT OF COMMERCE

National Oceanic and Atmospheric Administration

RIN 0648-XN61

Mid-Atlantic Fishery Management Council; Public Meeting

AGENCY: National Marine Fisheries Service (NMFS), National Oceanic and Atmospheric Administration (NOAA), Commerce.

ACTION: Notice of a public meeting.

SUMMARY: The Mid-Atlantic and the New England Fishery Management Councils' (MAFMC/NEFMC) Joint Spiny Dogfish Committee.

DATES: The meeting will be held on Thursday, March 19, 2009, from 9 a.m. to 4 p.m.

ADDRESSES: The meeting will be held at the Renaissance Philadelphia Airport Hotel, 500 Stevens Drive, Philadelphia, PA 19113; telephone: (610) 521-5900.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of the meeting will be to develop recommendations on a range of issues that will potentially amend the Spiny Dogfish Fishery Management Plan (FMP). The issues that may be discussed at the upcoming meeting include, but are not limited to:

Adding a research set-aside allocation option of up to 3% of the quota for use during annual specification setting

•Developing commercial quota allocation measures that would serve as alternatives to the current seasonal allocation system

•Establishing an approvable biomass rebuilding target

•Establishing a male-only dogfish fishery

•Considering the possibility of including smooth dogfish in the current FMP

•Establishing a limited access permit for spiny dogfish

Interested parties are welcome to attend the meeting. At the discretion of the Committee Chair, public comments may be taken during and/or just before the conclusion of the meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aid should be directed to M. Jan Bryan, (302) 674-2331 ext 18, at least 5 days prior to the meeting date.

Dated: February 25, 2009.
Tracey L. Thompson,
Acting Director, Office of Sustainable Fisheries, National Marine Fisheries Service.

[FR Doc. E9-4301 Filed 2-27-09; 8:45 am]

BILLING CODE 3510-22-S